DEPARTMENT OF HEALTH AND HUMAN SERVICES

Administration for Children and Families

Tribal Request for Reconsideration Hearing

AGENCY: Office of Child Care; Administration for Children and Families; U.S. Department of Health and Human Services.

ACTION: Notice of request for reconsideration hearing.

SUMMARY: Notice is hereby given to the Inter-Tribal Council of Nevada (ITCN) and interested parties of a reconsideration hearing. The purpose of the hearing is to reconsider the decision of the Administration for Children and Families (ACF), Office of Child Care (OCC) regarding revision to the FY2023-2025 triennial child count submitted by the Inter-Tribal Council of Nevada (ITCN) as part of their triennial plan, submitted on July 1, 2022. Because the child count was submitted as part of ITCN's FY2023-205 triennial plan, ITCN is entitled to request reconsideration to determine “whether such Plan or amendment conforms to the requirements for approval under the Act and pertinent Federal regulations.” The sole issue to be reconsidered is OCC's decision to reduce ITCN's child count.

DATES: December 3, 2024, at 9:00 a.m. PST; 12:00 EST.

ADDRESSES: Virtual via Zoom; Interested parties must submit a request for a registration link to Latasha Abney, Director, ACF Office of Grants Policy latasha.abney@acf.hhs.gov.

FOR FURTHER INFORMATION CONTACT: Latasha Abney, Director, ACF Office of Grants Policy latasha.abney@acf.hhs.gov or (202) 401-5324.

SUPPLEMENTARY INFORMATION: By letter dated January 17, 2023, OCC communicated its decision that ITCN had submitted a duplicated child count in an area that overlapped the service area of another CCDF tribal lead agency, and that the area was not within a reasonably close geographic proximity to the delineated borders of one of ITCN's member tribes, as required in 45 CFR 98.61(c) and 98.83(b), and as described in the Program Instruction CCDF-ACF-PI-2022-03. As a result, OCC adjusted ITCN's child count downward.

CCDF regulations prescribe that reconsideration shall be conducted by hearing governed by 45 CFR part 99. The ACF Director of Office of Grants Policy, Latasha Abney, is the designated presiding officer. The presiding officer has authority to “modify or waive any rule in [Part 99] upon determination that no party will be unduly prejudiced and the ends of justice will thereby be served.” 45 CFR 99.4.

45 CFR 99.15 allows recognition of other individuals or groups as parties “if the issues to be considered at the hearing have directly caused them injury and their interests to be protected by the governing Federal statute and regulations.” This Federal Register notice serves as notification to other parties who may have interest in this hearing. Individuals or groups desiring to participate as parties should submit a petition in writing to presiding officer, Latasha Abney, at the address above within 15 days of publication of this notice. Such petition shall concisely state (i) Petitioner's interest in the proceeding; (ii) Who will appear for petitioner; (iii) The issues on which petitioner wishes to participate; and (iv) Whether petitioner intends to present witnesses. A copy of the petition must also be served on ITCN Executive Director, Deserea Quintana at dquintana@itcn.org. The presiding officer will promptly determine whether each petitioner has the requisite interest and shall permit or deny participation accordingly.

45 CFR 99.22 allows parties to (a) Appear by counsel or other authorized representative, in all hearing proceedings; (b) Participate in any prehearing conference held by the presiding officer; (c) Agree to stipulations as to facts which will be made a part of the record; (d) Make opening statements at the hearing; (e) Present relevant evidence on the issues at the hearing; (f) Present witnesses who then must be available for cross-examination by all other parties; (g) Present oral arguments at the hearing; and (h) Submit written briefs, proposed findings of fact, and proposed conclusions of law, after the hearing. 45 CFR 99.23 allows that “The Department, the Lead Agency, and any individuals or groups recognized as parties shall have the right to conduct discovery (including depositions) against opposing parties,” and that Rules 26-37 of the Federal Rules of Civil Procedure shall apply to discovery proceedings.

Pursuant to 45 CFR 99.32, at the conclusion of the hearing and completion of post-hearing briefs, if any, the presiding officer shall certify the record and provide recommended finding and a proposed decision to the Assistant Secretary. Any party will then have 20 days to file exceptions and a supporting brief or statement with the Assistant Secretary. The decision of the Assistant Secretary shall be the final agency action on the matter.

All written material provided by ACF, ITCN, and any other recognized party will be included in the administrative record.

Megan E. Steel,
ACF Certifying Officer. Administration for Children and Families.

[FR Doc. 2024-23441 Filed 10-22-24; 8:45 am]

BILLING CODE 4184-87-P